DEPARTMENT OF THE INTERIOR

Geological Survey

[GR21EG51TJ50200; OMB Control Number 1028-New]

Agency Information Collection Activities; National Digital Trails Project—Trails Data Portal

AGENCY: Geological Survey, Interior.

ACTION: Notice of information collection; request for comment.

SUMMARY: In accordance with the Paperwork Reduction Act of 1995, we, the U.S. Geological Survey (USGS) are proposing a new information collection.

DATES: Interested persons are invited to submit comments on or before August 2, 2021.

ADDRESSES: Send your comments on this information collection request (ICR) by mail to U.S. Geological Survey, Information Collections Officer, 12201 Sunrise Valley Drive, MS 159, Reston, VA 20192; or by email to gs-info_collections@usgs.gov. Please reference OMB Control Number 1028-New in the subject line of your comments.

FOR FURTHER INFORMATION CONTACT: To request additional information about this ICR, contact Tatyana DiMascio by email at tdimascio@usgs.gov, or by telephone at (303) 202-4206.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

We are soliciting comments on the proposed ICR that is described below. We are especially interested in public comment addressing the following issues: (1) Is the collection necessary to the proper functions of the USGS; (2) will this information be processed and used in a timely manner; (3) is the estimate of burden accurate; (4) how might the USGS enhance the quality, utility, and clarity of the information to be collected; and (5) how might the USGS minimize the burden of this collection on the respondents, including through the use of information technology.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: A major component of the Department of the Interior's vision is to “Increase access to outdoor recreation opportunities for all Americans so that our people can be healthier, more fully enjoy the wonderful features of their federal lands, and take advantage of hunting, fishing, and other outdoor recreation pursuits that are the roots of the conservation movement.” At the direction of DOI, the US Geological Survey is advancing that vision with the launch of the National Digital Trails Network (NDT) project. The two-year project consists of three major goals:

1. Develop a web-based geospatial analysis tool to assist Federal land managers in identifying and prioritizing candidate trails for the connection of existing trails and trail networks.

2. Aid in the creation of a robust nationwide geospatial trails dataset including, at a minimum, trails from key Federal agencies including the Bureau of Land Management, National Park Service, U.S. Fish and Wildlife Service, and U.S. Forest Service.

3. Develop a mobile responsive application that will assist trail stewards, land management agencies, and members of the public in the maintenance of trails information.

This information collection request focuses on Goal 2, the Nationwide Digital Trails Dataset. The National Digital Trails Portal will support development and maintenance of the robust USGS Nationwide Digital Trails Dataset (Goal 2). In turn, the Nationwide Digital Trails Dataset is a primary component of the TRAILS decision support tool (Goal 1) which provides DOI bureaus and trail managers a tool to improve trail connectivity throughout the Nation's public lands.

The National Digital Trails Portal will facilitate an efficient digital trails data submission process and communication between USGS and data providers. Authoritative trail mangers will be able to login to submit their trails data, along with relevant information, for USGS review and integration into the Nationwide Trails Dataset. USGS staff will be able to login to download the submitted data, perform preliminary assessment, and provide status updates for every trail data submission. No data edits or integration will take place within the National Digital Trails Portal.

The following information will be collected for every authoritative data provider that submits trails data for USGS integration: name, email, and organization. This information will allow USGS to identify appropriate point of contact for every data source in the Nationwide Digital Trails Dataset. It may be necessary to reach out to a contact to provide status updates, or to clarify data discrepancies, or to obtain the latest trails data to perform updates to the Nationwide Digital Trails Dataset.

Title of Collection: National Digital Trails Project—Trails Data Portal.

OMB Control Number: 1028-NEW.

Form Number: None.

Type of Review: New.

Respondents/Affected Public: Federal, state or local government agencies; nonprofit organizations.

Total Estimated Number of Annual Respondents: 100.

Total Estimated Number of Annual Responses: 100.

Estimated Completion Time per Response: 25 minutes on average.

Total Estimated Number of Annual Burden Hours: 42 hours.

Respondent's Obligation: Voluntary.

Frequency of Collection: Occasional.

Total Estimated Annual Nonhour Burden Cost: None.

An agency may not conduct or sponsor and a person is not required to respond to a collection of information unless it displays a currently valid OMB control number.

The authority for this action is the Paperwork Reduction Act of 1995 (44 U.S.C. 3501 et seq.).

David Brostuen,
Director, National Geospatial Technical Operations Center, U.S. Geological Survey.

[FR Doc. 2021-11017 Filed 5-28-21; 8:45 am]

BILLING CODE 4338-11-P